DEPARTMENT OF LABOR

Employee Benefits Security Administration

Proposed Extension of Information Collection Request Submitted for Public Comment and Recommendations: Prohibited Transaction Class Exemption T88-1; Correction

AGENCY: Employee Benefits Security Administration, Department of Labor.

ACTION: Notice; correction.

SUMMARY: The Department of Labor published a document in the Federal Register of October 6, 2004 concerning proposed extension of information collection request submitted for public comments and recommendations: Prohibited Transaction Class Exemption T88-1. The document contained incorrect information in Paragraph III. Current Actions.

FOR FURTHER INFORMATION CONTACT: Gerald Lindrew, 202-693-8410.

Correction

In the Federal Register of October 6, 2004, in FR Doc 04-22430, on page 59962, in the first column, correct the “Dates” caption to read:

DATES: Written comments must be submitted on or before December 13, 2004.

And, in the Federal Register of October 6, 2004, in FR Doc 04-22430, on page 59962, in the second column, correct the “Current Actions” caption to read:

III. Current Actions

The Office of Management and Budget's (OMB) approval of this ICR will expire on November 30, 2004. After considering comments received in response to this notice, the Department intends to submit the ICR to OMB for continuing approval. No change to the existing ICR is proposed or made at this time.

Agency: Employee Benefits Security Administration.

Title: Prohibited Transaction Exemption T88-1.

Type of Review: Extension of a currently approved collection of information.

OMB Number: 1210-0074.

Affected Public: Business or other for-profit, Not-for-profit institutions, Individuals.

Total Respondents: 1.

Total Responses: 1.

Frequency: On occasion.

Estimated Total Burden Hours: 1.

Total Annual Costs (Operating and Maintenance): $0.

Dated: October 7, 2004.
Gerald B. Lindrew,
Deputy Director, Employee Benefits Security Administration, Office of Policy and Research.

[FR Doc. 04-23016 Filed 10-13-04; 8:45 am]

BILLING CODE 4510-29-P